DEPARTMENT OF HEALTH AND HUMAN SERVICES

National Institutes of Health

Center for Scientific Review; Amended Notice of Meeting

Notice is hereby given of a change in the meeting of the Center for Scientific Review Special Emphasis Panel, June 29, 2009, 8:30 a.m. to June 30, 2009, 6 p.m., The River Inn, 924 25th Street, NW., Washington, DC 20037 which was published in the Federal Register on June 11, 2009, 74 FR 27806-27808.

The meeting will be held August 6, 2009 to August 7, 2009. The meeting time and location remain the same. The meeting is closed to the public.

Dated: July 20, 2009.
Jennifer Spaeth,
Director, Office of Federal Advisory Committee Policy.

[FR Doc. E9-17732 Filed 7-23-09; 8:45 am]

BILLING CODE 4140-01-P